DEPARTMENT OF HOMELAND SECURITY

Office of the Secretary

[DHS-2006-0070]

Data Privacy and Integrity Advisory Committee

AGENCY: Office of the Secretary, Department of Homeland Security.

ACTION: Notice of Federal Advisory Committee Meeting.

SUMMARY: This notice announces the date, time, location, and agenda for the next meeting of the Department of Homeland Security Data Privacy and Integrity Advisory Committee. This meeting will be open to the public, with the exception of a one-hour administrative session.

DATES: The meeting will be held from 8 a.m. to 11:15 a.m. and 12:15 p.m. to 2:30 p.m. on Wednesday, December 6, 2006, in Miami Beach, Florida.

ADDRESSES: The Department of Homeland Security Data Privacy and Integrity Advisory Committee meeting will be held in the Key Biscayne A room of the Eden Roc Hotel, 4525 Collins Avenue, Miami Beach, Florida 33140. Persons wishing to make comments or who are unable to attend or speak at the meeting may submit comments at any time. All submissions received must include the docket number: DHS-2006-0070 and may be submitted by any one of the following methods:

• Federal Rulemaking Portal: http://www.regulations.gov. Follow instructions for submitting comments on the Web site.

• E-mail: PrivacyCommittee@dhs.gov. Include docket number in the subject line of the message.

• Fax: (571) 227-4171.

• Mail: Ms. Rebecca J. Richards, Executive Director, Data Privacy and Integrity Advisory Committee, Department of Homeland Security, Mail Stop D-3, Arlington, Virginia 22202.

Instructions: All submissions received must include the docket number: DHS-2006-0070. Comments received will also be posted without alteration at www.regulations.gov, including any personal information provided.

Docket: For access to the docket to read background documents or comments received by the DHS Data Privacy and Integrity Committee, go to www.regulations.gov. Comments received will be posted without alteration at http://www.dhs.gov/privacy, including any personal information provided.

FOR FURTHER INFORMATION CONTACT: Hugo Teufel III, Chief Privacy Officer, or Rebecca J. Richards, Executive Director, Data Privacy and Integrity Advisory Committee, Department of Homeland Security, Arlington, Virginia 22202, by telephone (571) 227-3813, by fax (571) 227-4171, or by e-mail PrivacyCommittee@dhs.gov.

SUPPLEMENTARY INFORMATION: The Data Privacy and Integrity Advisory Committee (“Privacy Advisory Committee”) will be meeting on Wednesday, December 6, 2006, in the Key Biscayne A room of the Eden Roc Hotel, 4525 Collins Avenue, Miami Beach, Florida 33140. The meeting will be held from 8 a.m. to 11:15 a.m. and 12:15 p.m. to 2:30 p.m.

During the meeting, the DHS Chief Privacy Officer will provide an update on the activities of the DHS Privacy Office. The Subcommittees will update the Committee on the work currently being conducted. In the morning and afternoon sessions, invited speakers will discuss data integrity and credentialing programs. A tentative agenda has been posted on the Privacy Advisory Committee Web site at http://www.dhs.gov/privacy.

Public comments will be accepted during the meeting between 2 p.m. and 2:30 p.m. All those who wish to make public comments during this time may register in advance or sign-up on the day of the meeting. In order to allow as many people as possible to testify, witnesses should limit their remarks to three minutes. For those wishing to make written comments, please follow the procedure noted above.

Public attendance is encouraged. Any member of the public who wishes to attend the public session is requested to provide his or her name and affiliation no later than 2 p.m. EST, Friday, December 1, 2006, to Rebecca J. Richards via e-mail at PrivacyCommittee@dhs.gov, or via telephone at (571) 227-3813. This will assist with the preparation of name badges, meeting materials and seating arrangements. Everyone who plans to attend is respectfully requested to be present and seated by 7:45 a.m. for the morning session and by 12 p.m. for the afternoon session.

Persons with disabilities who require special assistance should indicate this in their admittance request and are encouraged to identify anticipated special needs as early as possible.

Although every effort will be made to accommodate all members of the public, seating is limited and will be allocated on a first-come, first-served basis.

Hugo Teufel III,
Chief Privacy Officer.

[FR Doc. E6-19173 Filed 11-13-06; 8:45 am]

BILLING CODE 4410-10-P